FEDERAL COMMUNICATIONS COMMISSION

47 CFR Parts 0 and 90

[WT Docket No. 02-55, ET Docket No. 00-258; ET Docket No. 95-18; RM-9498; RM-10024—FCC 07-102]

Improving Public Safety Communications in the 800 MHz Band, et al.

AGENCY: Federal Communications Commission.

ACTION: Final rule; correction.

SUMMARY: The Federal Communications Commission published in the Federal Register of July 20, 2007 (72 FR 39756), a summary of the Commission's Second Memorandum Opinion and Order resolving various petitions for reconsideration in the 800 MHz rebanding proceeding, WT Docket 02-55. The summary contained inconsistent language concerning the deadline for the submission of the proposed Puerto Rico band plan that the 800 MHz Transition Administrator must file with the Commission. This document corrects that inconsistency.

DATES: Effective on August 20, 2007.

FOR FURTHER INFORMATION CONTACT: John Evanoff, Public Safety and Homeland Security Bureau, (202) 418-0848, or via the Internet at John.Evanoff@fcc.gov.

SUPPLEMENTARY INFORMATION: The Commission published a document in the Federal Register of July 20, 2007, (72 FR 39756). That document summarized the Second Memorandum Opinion and Order in WT Docket No. 02-55, adopted on May 24, 2007, and released on May 30, 2007. The Second Memorandum Opinion and Order included inconsistent language regarding the deadline for the submission of the Puerto Rico band plan that the 800 MHz Transition Administrator must file with the Commission. This inconsistency was reflected in the summary of the order published in the Federal Register on July 20, 2007. On July 26, 2007, the Commission published an erratum correcting the inconsistency, and confirming that the deadline for submission of the Puerto Rico band plan is 60 days from the effective date of the Second Memorandum Opinion and Order. Today's document corrects the inconsistency contained in the Federal Register summary of the Second Memorandum Opinion and Order published on July 20, 2007. In rule FR Doc. E7-14099 published on July 20, 2007 (72 FR 39756) make the following correction on page 39758, in the first column paragraph number 8, fifth sentence correct to read as follows:

Accordingly we provide the 800 MHz Transition Administrator (TA) with specific criteria and direct the TA to propose an alternative band plan within 60 days of the effective date of this order, including, if necessary, a pro rata distribution of ESMR spectrum.

Federal Communications Commission.
Marlene H. Dortch,
Secretary.

[FR Doc. E7-18868 Filed 9-26-07; 8:45 am]

BILLING CODE 6712-01-P